DEPARTMENT OF THE INTERIOR

National Park Service

[NPS-WASO-D-COS-POL-36997; PPWODIREP0; PPMPSAS1Y.000000; PX.XDIRE0039]

Advisory Committee on Reconciliation in Place Names; Charter Renewal

AGENCY: National Park Service, Interior.

ACTION: Notice of charter renewal.

SUMMARY: The Secretary of the Interior is giving notice of the renewal of the Advisory Committee on Reconciliation in Place Names. The Committee identifies geographic feature names and Federal land unit names that are considered derogatory and solicits input on the process for generating replacement names.

FOR FURTHER INFORMATION CONTACT: Andrea DeKoter, Committee Manager for the Advisory Committee on Reconciliation in Place Names, Office of Policy, National Park Service, 1849 C St. NW, Washington, DC 20240; by email at reconciliation_committee@nps.gov; or by telephone at (202) 354-2220.

SUPPLEMENTARY INFORMATION: The Committee was established by authority of the Secretary of the Interior (Secretary) under 54 U.S.C. 100906 and is regulated by the Federal Advisory Committee Act. This notice is published in accordance with section 9(a)(2) of the Federal Advisory Committee Act of 1972 (Pub. L. 92-463, as amended). The certification of renewal is published below.

Certification Statement: I hereby certify that the renewal of the Advisory Committee on Reconciliation in Place Names is necessary, in the public interest, and is in connection with the performance of duties imposed on the Department of the Interior and in furtherance of the National Park Service Organic Act (54 U.S.C. 100101 et seq.), the Fish and Wildlife Act of 1956 (16 U.S.C. 742a), the Federal Land Policy and Management Act of 1976 (43 U.S.C. 1701), the National Wildlife Refuge System Improvement Act of 1997 (16 U.S.C. 668dd), and other Acts applicable to specific bureaus.

(Authority: 5 U.S.C. Ch. 10)

Deb Haaland,
Secretary of the Interior.

[FR Doc. 2024-04484 Filed 3-1-24; 8:45 am]

BILLING CODE 4312-52-P